DEPARTMENT OF TRANSPORTATION

Federal Aviation Administration

14 CFR Part 97

[Docket No. 30965 Amdt. No. 3597]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 14, 2014. The compliance date for each SIAP, associated Takeoff Minimums, and ODP is specified in the amendatory provisions.

The incorporation by reference of certain publications listed in the regulations is approved by the Director of the Federal Register as of July 14, 2014.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (air).

Issued in Washington, DC, on June 20, 2014.
John Duncan,
Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 24 JULY 2014

Wasilla, AK, Wasilla, RNAV (GPS) RWY 4, Amdt 1

Wasilla, AK, Wasilla, RNAV (GPS) RWY 22, Orig

Wasilla, AK, Wasilla, Takeoff Minimums and Obstacle DP, Amdt 2

Geneva, AL, Geneva Muni, RNAV (GPS) RWY 11, Orig

Geneva, AL, Geneva Muni, RNAV (GPS) RWY 29, Orig

Geneva, AL, Geneva Muni, Takeoff Minimums and Obstacle DP, Orig

Prescott, AZ, Ernest A. Love Field, RNAV (GPS) RWY 21L, Amdt 2A

Boca Raton, FL, Boca Raton, RNAV (GPS) Y RWY 23, Amdt 1

Boca Raton, FL, Boca Raton, RNAV (RNP) Z RWY 23, Orig

Tampa, FL, Tampa Intl, LOC RWY 1R, Amdt 4

Tampa, FL, Tampa Intl, RNAV (GPS) RWY 1R, Amdt 3

Millen, GA, Millen, NDB RWY 17, Orig-B

Chicago, IL, Chicago Midway Intl, ILS OR LOC/DME RWY 4R, Amdt 1C

Chicago, IL, Chicago Midway Intl, ILS OR LOC/DME RWY 13C, Orig-D

Chicago, IL, Chicago Midway Intl, ILS OR LOC/DME RWY 31C, Amdt 3

Chicago, IL, Chicago Midway Intl, RNAV (GPS) RWY 4L, Orig-C

Chicago, IL, Chicago Midway Intl, RNAV (GPS) RWY 13L, Orig-C

Chicago, IL, Chicago Midway Intl, RNAV (GPS) RWY 22R, Orig-D

Chicago, IL, Chicago Midway Intl, RNAV (GPS) RWY 31R, Orig-D

Chicago, IL, Chicago Midway Intl, RNAV (GPS) Z RWY 4R, Amdt 3C

Chicago, IL, Chicago Midway Intl, RNAV (GPS) Z RWY 13C, Orig-D

Chicago, IL, Chicago Midway Intl, RNAV (GPS) Z RWY 22L, Orig-A

Chicago, IL, Chicago Midway Intl, RNAV (GPS) Z RWY 31C, Amdt 4

Chicago, IL, Chicago Midway Intl, RNAV (RNP) Y RWY 4R, Orig-A

Chicago, IL, Chicago Midway Intl, RNAV (RNP) Y RWY 13C, Amdt 2A

Chicago, IL, Chicago Midway Intl, RNAV (RNP) Y RWY 22L, Amdt 1

Chicago, IL, Chicago Midway Intl, RNAV (RNP) Y RWY 31C, Orig-A

Gaithersburg, MD, Montgomery County Airpark, NDB RWY 14, Amdt 2A, CANCELED

Greenville, ME, Greenville, Takeoff Minimums and Obstacle DP, Amdt 3

Kalispell, MT, Glacier Park Intl, VOR/DME RWY 30, Amdt 10A

Statesville, NC, Statesville Rgnl, ILS OR LOC/DME Z RWY 28, Amdt 1

Statesville, NC, Statesville Rgnl, RNAV (GPS) RWY 10, Amdt 1

Statesville, NC, Statesville Rgnl, RNAV (GPS) RWY 28, Amdt 3

Statesville, NC, Statesville Rgnl, VOR/DME RWY 10, Amdt 9

Teterboro, NJ, Teterboro, RNAV (GPS) Y RWY 19, Orig

Teterboro, NJ, Teterboro, RNAV (RNP) Z RWY 19, Orig-D

New York, NY, John F. Kennedy Intl, RNAV (GPS) X RWY 31L, Amdt 1B, CANCELED

New York, NY, John F. Kennedy Intl, RNAV (GPS) Y RWY 31L, Amdt 2

New York, NY, John F. Kennedy Intl, RNAV (GPS) Y RWY 31R, Amdt 2

New York, NY, John F. Kennedy Intl, RNAV (RNP) Z RWY 31L, Amdt 1

New York, NY, John F. Kennedy Intl, RNAV (RNP) Z RWY 31R, Amdt 1

New York, NY, La Guardia, RNAV (RNP) Z RWY 4, Amdt 1

Oklahoma City, OK, Will Rogers World, ILS OR LOC RWY 17L, Amdt 3

Oklahoma City, OK, Will Rogers World, ILS OR LOC RWY 17R, Amdt 12

Oklahoma City, OK, Will Rogers World, ILS OR LOC/DME RWY 35L, Amdt 2

Oklahoma City, OK, Will Rogers World, ILS OR LOC/DME RWY 35R, ILS RWY 35R (SA CAT I), ILS RWY 35R (CAT II), Amdt 10

Oklahoma City, OK, Will Rogers World, RNAV (GPS) RWY 13, Amdt 3

Oklahoma City, OK, Will Rogers World, RNAV (GPS) Y RWY 17L, Amdt 3

Oklahoma City, OK, Will Rogers World, RNAV (GPS) Y RWY 17R, Amdt 4

Oklahoma City, OK, Will Rogers World, RNAV (GPS) Y RWY 35L, Amdt 4

Oklahoma City, OK, Will Rogers World, RNAV (GPS) Y RWY 35R, Amdt 3

Oklahoma City, OK, Will Rogers World, RNAV (RNP) Z RWY 17L, Amdt 3

Oklahoma City, OK, Will Rogers World, RNAV (RNP) Z RWY 17R, Amdt 1

Oklahoma City, OK, Will Rogers World, RNAV (RNP) Z RWY 35L, Amdt 1

Oklahoma City, OK, Will Rogers World, RNAV (RNP) Z RWY 35R, Amdt 2

Oklahoma City, OK, Will Rogers World, Takeoff Minimums and Obstacle DP, Amdt 2

Harrisburg, PA, Capital City, ILS OR LOC RWY 8, Amdt 12

Harrisburg, PA, Capital City, RNAV (GPS) RWY 8, Amdt 1

Allendale, SC, Allendale County, VOR-A, Amdt 6

Nashville, TN, Nashville Intl, RNAV (GPS) Y RWY 2C, Amdt 1B

Blackstone, VA, Allen C Perkinson Blackstone AAF, NDB-A, Amdt 12

Richmond, VA, Richmond Intl, RNAV (GPS) Z RWY 2, Amdt 1A

Richmond, VA, Richmond Intl, RNAV (GPS) Z RWY 16, Amdt 1A

Richmond, VA, Richmond Intl, RNAV (GPS) Z RWY 20, Amdt 2

Richmond, VA, Richmond Intl, RNAV (GPS) Z RWY 34, Amdt 1A

Richmond, VA, Richmond Intl, RNAV (RNP) Y RWY 2, Orig

Richmond, VA, Richmond Intl, RNAV (RNP) Y RWY 16, Orig

Richmond, VA, Richmond Intl, RNAV (RNP) Y RWY 20, Orig

Richmond, VA, Richmond Intl, RNAV (RNP) Y RWY 34, Orig

West Dover, VT, Mount Snow, NDB RWY 1, Amdt 1, CANCELED

Effective 21 AUGUST 2014

Graford, TX, Possum Kingdom, RNAV (GPS) RWY 2, Orig-B

Graford, TX, Possum Kingdom, RNAV (GPS) RWY 20, Orig-B

Lago Vista, TX, Lago Vista TX—Rusty Allen, RNAV (GPS) RWY 15, Orig-A

[FR Doc. 2014-15915 Filed 7-11-14; 8:45 am]

BILLING CODE 4910-13-P